ENVIRONMENTAL PROTECTION AGENCY

[ER-FRL-6670-3]

Environmental Impacts Statements; Notice of Availability

Responsible Agency: Office of Federal Activities, General Information (202) 564-7167 or http://www.epa.gov/compliance/nepa/.

Weekly receipt of Environmental Impact Statements

Filed December 5, 2005 Through December 9, 2005

Pursuant to 40 CFR 1506.9.

EIS No. 20050515, Draft EIS, NPS, FL, Fort King National Historic Landmark, Special Resource Study,Implementation, Second Seminole War Site, City of Ocala, Marion County, FL, Comment Period Ends: January 30, 2006, Contact: Tim Bemisderfer 404-562-3124.

EIS No. 20050516, Draft Supplement, DOI, 00, Upper Mississippi River National Wildlife and Fish Refuge,Comprehensive Conservation Plan, A New Alternative E: Modified Wildlife and Integrated Public Use, Implementation, MN, WI, IL and IA, Comment Period Ends: February 3, 2005, Contact: Don Hultman 507-452-4232. This document is available on the Internet at http://www.fws.gov/midwest/planning/uppermiss/index.html.

EIS No. 20050517, Final EIS, FHW, PA, US-219 Improvements Project, Meyersdale to Somerset, SR 6219, Section 020, Funding, U.S. Army COE Section 404 Permit, Somerset County, PA, Wait Period Ends: January 23, 2006, Contact: James A.Cheatham 717-221-3461.

EIS No. 20050518, Draft EIS, BLM, WY, Atlantic Rim Natural Gas Field Development Project, Proposed Natural Gas Development to 2000 Wells, 1800 to Coal Beds and 200 to Other Formations, Carbon County, WY, Comment Period Ends:January 30, 2006, Contact: David Simons 307-328-4328

EIS No. 20050519, Final EIS, FHW, RI,U.S. Route 6/Route 10 Interchange Improvement Project, To Identify Transportation Alternative, Funding, City of Providence County, RI, Wait Period Ends: January 17, 2006, Contact: Ralph Rizzo 401-528-4548.

EIS No. 20050520, Draft EIS, BIA, OR, Coyote Business Park, Confederated Tribes of the Umatilla Indian Reservation, Proposes to Develop, Build and Manage a Light Industrial Commercial Business Park, Umatilla County, OR,Comment Period Ends: January 30, 2006, Contact: Jerry L. Lauer 541-278-3786.

EIS No. 20050521, Draft EIS, BLM, AZ, Arizona Strip Field Office Resource Management Plan, which includes: Vermilion Cliffs National Monument,Grand Canyon-Parashant National Monument (Parashant) BLM Portion, General Management Plan for the Grand Canyon-Parashant National Monument NPS Portion of Parashant,Implementation, AZ, Comment Period Ends: January 30, 2006, Contact:Diana Hawks 435-688-3266.

EIS No. 20050522, Final EIS, NPS, TX, Big Thicket National Preserve Oil and Gas Management Plan,Implementation, Hardin, Jefferson, Orange, Liberty, Tyler,Jasper and Polk Counties, TX, Wait Period Ends: January 17, 2006,Contact: Linda Dansby 505-988-6095.

Amended Notices

EIS No. 20050411, Draft EIS, IBR, CA,Central Valley Project, West San Joaquin Division, San Luis Unit Long-Term Water Service Contract Renewal, Cities of Avenal, Coalinga and Huron, Fresno, King and Merced Counties, CA, Comment Period Ends: January 17, 2006, Contact: Shane Hunt, 559-487-5138 Revision to FR Notice Published October 7, 2005: Comment Period Extend from November 25, 2005 to January 17, 2006.

Dated: December 13, 2005.
Robert W. Hargrove,
Director, NEPA Compliance Division, Office of Federal Activities.

[FR Doc. E5-7446 Filed 12-15-05; 8:45 am]

BILLING CODE 6560-50-P